FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 3, 2002.

A. Federal Reserve Bank of Kansas City (Susan Zubradt, Assistant Vice President) 925 Grand Avenue, Kansas City, Missouri 64198-0001:

1. Stephen Randolph Buford, Sam Dunkin Buford, Gentner Frederick Drummond, all of Tulsa, Oklahoma, and Sharon Buford Linsenmeyer, Beatrice, Nebraska; to acquire voting shares of N.B.C. Bancshares in Pawhuska, Inc., Pawhuska, Oklahoma, and thereby indirectly acquire voting shares of NBC Bank, Pawhuska, Oklahoma.

B. Federal Reserve Bank of San Francisco (Maria Villanueva, Consumer Regulation Group) 101 Market Street, San Francisco, California 94105-1579:

1. Joyce Anne Chiles, Centerville, Washington; William John Firstenburg and Bruce Edward Firstenburg, Vancouver, Washington; to acquire additional voting shares of First Independent Investment Group, Inc., Vancouver, Washington, and thereby indirectly acquire additional voting shares of First Independent Bank, Vancouver, Washington.

Board of Governors of the Federal Reserve System, November 13, 2002.
Robert deV. Frierson,
Deputy Secretary of the Board.

[FR Doc. 02-29274 Filed 11-18-02; 8:45 am]

BILLING CODE 6210-01-S